FEDERAL RESERVE SYSTEM

Notice of Proposals to Engage in permissible Nonbanking Activities or to Acquire Companies that are Engaged in Permissible Nonbanking Activities; Correction

This notice corrects a notice (FR Doc. 01-13815) published on pages 29805 and 29806 of the issue for Friday, June 1, 2000.

Under the Federal Reserve Bank of New York heading, the entry for Discount Bancorp, Inc., New York, New York, is revised to read as follows:

A. Federal Reserve Bank of New York (Betsy Buttrill White, Senior Vice President) 33 Liberty Street, New York, New York 10045-0001:

1. Israel Discount Bank Limited, Tel-Aviv, Israel, and Discount Bancorp, Inc., New York, New York; to engage de novo through its subsidiary, IDB Mortgage Corp., New York, New York, in residential mortgage lending activities, pursuant to § 225.28 (b)(1) and (b)(2) of Regulation Y.

Comments on this application must be received by June 29, 2001.

Board of Governors of the Federal Reserve System, June 13, 2001.
Robert deV. Frierson
Associate Secretary of the Board.

[FR Doc. 01-15346 Filed 6-15-01; 8:45 am]

BILLING CODE 6210-01-S